COMMISSION ON CIVIL RIGHTS

Sunshine Act Meeting Notice

Agency: U.S. Commission Civil Rights.

Date and Time: Friday, January 7, 2005, 9:30 a.m.

Place: U.S. Commission on Civil Rights, 624 9th Street, NW., Room 540, Washington, DC 20425.

Status:

Agenda

I. Approval of Agenda

II. Approval of Minutes of November 12, 2004 Meeting

III. Announcements

• Martin Luther King Day.

• Introduction of New Commissioners and Staff Director.

IV. Staff Director's Report

• Financial Status of the Commission.

• Status of GAO Recommendations.

• Compliance with Congressional Oversight.

• Other.

V. Administrative Policies and Procedures

• Policy Regarding Public Release of Commission Reports.

• Policy Regarding Posting of Reports on Commission Web Site.

• Immediate Changes to Commission Web Site.

• Policy of Scheduling Out of Town Commission Meetings.

VI. Staff Progress Reports

• Terri Dickerson, Office of Civil Rights Evaluation.

• Debra Carr, Office of General Counsel.

• George Harbison, Chief Budget and Finance Unit.

• Tina Martin, Director of Management.

• Pam Dunston, Administrative Services & Clearinghouse Division.

VII. Establishment of a Working Group on Reform

VIII. Future Agenda Items

Contact Person for Further Information: Kenneth L. Marcus, Staff Director (202) 376-7700.

Debra A. Carr,
General Counsel.

[FR Doc. 04-28484 Filed 12-23-04; 12:01 pm]

BILLING CODE 6335-01-M